ENVIRONMENTAL PROTECTION AGENCY

[ER-FRL-6635-2]

Environmental Impact Statements; Notice of Availability

Responsible Agency: Office of Federal Activities, General Information (202) 564-7167 or http://www.epa.gov/compliance/nepa.

Weekly receipt of Environmental Impact Statements

Filed November 11, 2002, through November 15, 2002,

Pursuant to 40 CFR 1506.9.

EIS No. 020466, Draft Supplement, FHW, MI, US-31 Freeway Connection from Napier Road to I-94 Project, transportation improvement, updated information, Berrien County, MI, comment period ends: January 3, 2003, contact: James Kirschensteiner (517) 702-1835.

EIS No. 020472, Draft Supplement, COE, FL, Upper ST. Johns River Basin and Related Areas, Central and Southern Florida Flood Control Project, proposed modifications to project features north of the Fellsmere Grade, to preserve and enhance floodplain and aquatic habitats, Brevard County, FL, comment period ends: January 3, 2003, contact: Esteban Jimerez (904) 232-2115.

EIS No. 020473, Draft EIS, BLM, NV, Ivanpah Energy Center Project, proposes to construct and operate a 500 Megawatt (MW) gas-fired electric power generating station in southern Clark County, NV, comment period ends: January 3, 2003, contact: Jerrold E. Crockford (505) 599-6333.

EIS No. 020474, Draft EIS, FHW, AK, South Extension of the Coastal Trail Project, to extend the existing Tony Knowles Coastal Trail from Kincaid Park through the project area to the Potter Weigh Station, COE section 10 and 404 permit, municipality of Anchorage, Anchorage, Alaska, comment period ends: January 8, 2003, contact: Tim A. Haugh (907) 586-7418. This document is available on the Internet at: http://home.gci.net/~southtrail.

EIS No. 020475, Draft EIS, USN, CA, China Lake Naval Air Weapons Station, proposed military operational increases and implementation of associated comprehensive land use and integrated natural resources management plans, located in the North and South Range, Inyo, Kern and San Bernardino Counties, CA, comment period ends: February 18, 2003, contact: John O'Gara (076) 093-9321.

EIS No. 020476, Final EIS, COE, FL, Miami River Dredged Material Management Plan, river sediments dredging and disposal maintenance dredging, Biscayne Bay, city of Miami, Miami-Dade County, FL, wait period ends: December 23, 2002, contact: Daniel Small (404) 562-5224.

Amended Notices

EIS No. 020405, Draft EIS, FHW, NH, Interstate 93 Improvements, from Salem to Manchester, IM-IR-93-1(174)0, 10418-C, funding, NPDES and COE section 404 permits, Hillsborough and Rockingham Counties, NH, comment period ends: December 16, 2002, contact: William F. O'Donnell (603) 228-3057. Revision of Federal Register notice published on 10/4/2002: CEQ comment period ending 11/18/2002 has been extended to 12/16/2002.

EIS No. 020445, Draft EIS, COE, Lake Sidney Lanier Project, to continue the ongoing operation and maintenance activities necessary of flood control, hydropower generation, water supply, recreation, natural resources management, and shoreline management, section 10 and 404 permits, Dawson, Forsyth, Lumpkin, Hill and Gwinnett Counties, GA, comment period ends: December 23, 2002, contact: Glen Coffee (251) 690-2727.

Revision of Federal Register notice published on 11/8/2002: correction to contact name and telephone number. Also Draft EIS is available on Internet at: http://www.usacelakelaniereis.net/.

Dated: November 19, 2002.
B. Katherine Biggs,
Associate Director, NEPA Compliance, Office of Federal Activities.

[FR Doc. 02-29781 Filed 11-21-02; 8:45 am]

BILLING CODE 6560-50-P